DEPARTMENT OF COMMERCE

International Trade Administration

[A-555-001, A-560-836, A-557-818, A-801-002, A-549-841, A-489-841, A-552-827]

Mattresses From Cambodia, Indonesia, Malaysia, Serbia, Thailand, the Republic of Turkey, and the Socialist Republic of Vietnam: Antidumping Duty Orders and Amended Final Affirmative Antidumping Determination for Cambodia

AGENCY: Enforcement and Compliance, International Trade Administration, Department of Commerce.

SUMMARY: Based on the final affirmative determinations by the Department of Commerce (Commerce) and the International Trade Commission (ITC), Commerce is issuing antidumping duty orders on mattresses from Cambodia, Indonesia, Malaysia, Serbia, Thailand, the Republic of Turkey (Turkey), and the Socialist Republic of Vietnam (Vietnam). In addition, Commerce is amending its final affirmative determination on mattresses from Cambodia.

DATES: Applicable May 14, 2021.

FOR FURTHER INFORMATION CONTACT: Preston Cox at (202) 482-5041 (Cambodia); Janae Martin at (202) 482-0239 (Indonesia); Dennis McClure at (202) 482-5973 (Malaysia); Joshua DeMoss (202) 482-3362 (Serbia); Paola Aleman Ordaz at (202) 482-4031 (Thailand); Jacob Keller at (202) 482-4849 or Theodore Pearson at (202) 482-2631 (Turkey); and Dakota Potts at (202) 482-0223 (Vietnam), AD/CVD Operations, Enforcement and Compliance, International Trade Administration, U.S. Department of Commerce, 1401 Constitution Avenue NW, Washington, DC 20230.

SUPPLEMENTARY INFORMATION:

Background

In accordance with sections 735(d) and 771(i)(1) of the Tariff Act of 1930, as amended (the Act), and 19 CFR 351.210(c), Commerce published its affirmative final determinations in the less-than-fair-value investigations of mattresses from Cambodia, Indonesia, Malaysia, Serbia, Thailand, Turkey, and Vietnam on March 25, 2021.¹ On May 10, 2021, the ITC notified Commerce of its final affirmative determinations that an industry in the United States is materially injured within the meaning of section 735(b)(1)(A)(i) of the Act, by reason of the less-than-fair-value imports of mattresses from Cambodia, Indonesia, Malaysia, Serbia, Thailand, Turkey, and Vietnam.²

¹ See Mattresses from Cambodia: Final Affirmative Determination of Sales at Less Than Fair Value and Final Negative Determination of Critical Circumstances, 86 FR 15894 (March 25, 2021) (Cambodia Final Determination); Mattresses from Indonesia: Final Affirmative Determination of Sales at Less Than Fair Value, 86 FR 15899 (March 25, 2021); Mattresses from Malaysia: Final Affirmative Determination of Sales at Less Than Fair Value, 86 FR 15901 (March 25, 2021); Mattresses from Serbia: Final Affirmative Determination of Sales at Less Than Fair Value, and Final Negative Finding of Critical Circumstances, 86 FR 15892 (March 25, 2021); Mattresses from Thailand: Final Affirmative Determination of Sales at Less Than Fair Value, 86 FR 15928 (March 25, 2021); Mattresses from the Republic of Turkey: Final Affirmative Determination of Sales at Less Than Fair Value and Final Negative Determination of Critical Circumstances, 86 FR 15917 (March 25, 2021); and Mattresses from the Socialist Republic of Vietnam; Final Affirmative Determination of Sales at Less Than Fair Value, 86 FR 15889 (March 25, 2021).

² See ITC Letter, dated May 10, 2021 (ITC Letter).

Scope of the Orders

The merchandise covered by these orders are mattresses from Cambodia, Indonesia, Malaysia, Serbia, Thailand, Turkey, and Vietnam. For a complete description of the scope of the orders, see the Appendix to this notice.

Amendment to Final Determination; Mattresses From Cambodia

A ministerial error is defined as an error in addition, subtraction, or other arithmetic function, clerical error resulting from inaccurate copying, duplication, or the like, and any other similar type of unintentional error which the Secretary considers ministerial.³

³ See section 735(e) of the Act and 19 CFR 351.224(f).

Pursuant to sections 735(e) of the Act and 19 CFR 351.224(e) and (f), Commerce is amending the Cambodia Final Determination to reflect the correction of two ministerial errors in the final estimated weighted-average dumping margin calculated for the collapsed entity, Best Mattresses International Company Limited (Best Mattresses)/Rose Lion Furniture International Company Limited (Rose Lion). In addition, because Best Mattresses/Rose Lion's estimated weighted-average dumping margin is the basis for the estimated weighted-average dumping margin for all other Cambodian producers and exporters of subject merchandise, we also are revising the all-others rate in the Cambodia Final Determination.⁴ The amended estimated weighted-average dumping margins are listed in the “Estimated Weighted-Average Dumping Margins” section below.

⁴ See Memorandum, “Antidumping Duty Investigation of Mattresses from Cambodia: Allegations of Ministerial Errors in Final Determination,” dated April 19, 2021 (Ministerial Error Memorandum).

Antidumping Duty Orders

On May 10, 2021, in accordance with sections 735(b)(1)(A)(i) and 735(d) of the Act, the ITC notified Commerce of its final determinations that an industry in the United States is materially injured by reason of imports of mattresses from Cambodia, Indonesia, Malaysia, Serbia, Thailand, Turkey, and Vietnam.⁵ Therefore, in accordance with sections 735(c)(2) and 736 of the Act, we are issuing these antidumping duty orders. Because the ITC determined that imports of mattresses from Cambodia, Indonesia, Malaysia, Serbia, Thailand, Turkey, and Vietnam are materially injuring a U.S. industry, unliquidated entries of such merchandise from Cambodia, Indonesia, Malaysia, Serbia, Thailand, Turkey, and Vietnam, entered or withdrawn from warehouse for consumption, are subject to the assessment of antidumping duties.

⁵ See ITC Letter.

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of mattresses from Cambodia, Indonesia, Malaysia, Serbia, Thailand, Turkey, and Vietnam. Antidumping duties will be assessed on unliquidated entries of mattresses from Cambodia, Indonesia, Malaysia, Serbia, Thailand, Turkey, and Vietnam entered, or withdrawn from warehouse, for consumption on or after November 3, 2020, the date of publication of the Preliminary Determinations,⁶ but will not include entries occurring after the expiration of the provisional measures period and before the publication in the Federal Register of the ITC's injury determination, as further described below.

⁶ See Mattresses from Cambodia: Preliminary Affirmative Determination of Sales at Less Than Fair Value, Preliminary Determination of Critical Circumstances, Postponement of Final Determination, and Extension of Provisional Measures, 85 FR 69594 (November 3, 2020); Mattresses from Indonesia: Preliminary Affirmative Determination of Sales at Less Than Fair Value, Postponement of Final Determination, and Extension of Provisional Measures, 85 FR 69597 (November 3, 2020); Mattresses from Malaysia: Preliminary Affirmative Determination of Sales at Less Than Fair Value, Postponement of Final Determination, and Extension of Provisional Measures, 85 FR 69574 (November 3, 2020); Mattresses from Serbia: Preliminary Affirmative Determination of Sales at Less Than Fair Value, Preliminary Negative Determination of Critical Circumstances, Postponement of Final Determination, and Extension of Provisional Measures, 85 FR 69589 (November 3, 2020); Mattresses from Thailand: Preliminary Affirmative Determination of Sales at Less Than Fair Value, Postponement of Final Determination, and Extension of Provisional Measures, 85 FR 69568 (November 3, 2020); Mattresses from the Republic of Turkey: Preliminary Affirmative Determination of Sales at Less Than Fair Value, Preliminary Negative Determination of Critical Circumstances, Postponement of Final Determination, and Extension of Provisional Measures, 85 FR 69571 (November 3, 2020); and Mattresses from the Socialist Republic of Vietnam: Preliminary Affirmative Determination of Sales at Less Than Fair Value, Postponement of Final Determination, and Extension of Provisional Measures, 85 FR 69591 (November 3, 2020).

Suspension of Liquidation

In accordance with section 736 of the Act, Commerce will instruct CBP to reinstitute the suspension of liquidation of subject merchandise (i.e., mattresses from Cambodia, Indonesia, Malaysia, Serbia, Thailand, Turkey, and Vietnam), effective the date of publication of the ITC final determination in the Federal Register, and to assess, upon further instruction by Commerce pursuant to section 736(a)(1) of the Act, antidumping duties for each entry of the subject merchandise equal to the amount by which normal value of the merchandise exceeds the export price or constructed export price of the merchandise. We intend to instruct CBP to require, at the same time as importers would normally deposit estimated import duties on this merchandise, cash deposits for each entry of subject merchandise equal to the rates noted below. These instructions suspending liquidation will remain in effect until further notice. The all-others rates listed below apply to all other producers or exporters not specifically listed. The Vietnam-wide entity rate listed below applies to all exporters not specifically listed.

Estimated Weighted-Average Dumping Margins

The estimated weighted-average dumping margins for each antidumping duty order are as follows:

⁷ See Ministerial Error Memorandum.

⁸ Id.

Exporter/producer | Estimated weighted-average dumping margin (percent)
Cambodia
Best Mattresses International Company Limited/Rose Lion Furniture International Company Limited | ⁷ 52.41
All Others | ⁸ 52.41
Indonesia
PT Zinus Global Indonesia | 2.22
All Others | 2.22
Malaysia
Delandis Furniture (M) Sdn Bhd | 42.92
Far East Foam Industries Sdn Bhd | 42.92
Vision Foam Ind. Sdn Bhd | 42.92
All Others | 42.92
Serbia
Healthcare Europe DOO Ruma | 112.11
All Others | 112.11
Thailand
Nisco (Thailand) Co., Ltd | 763.28
Saffron Living Co., Ltd | 37.48
All Others | 37.48
Turkey
BRN Yatak Baza Ev Tekstili Insaat Sanayi Ticaret A.S | 20.03
All Others | 20.03
Vietnam

Producer | Exporter |
Cong Ty Tnhn Nem Thien Kim (a.k.a. Better Z's, Ltd.) | Dockter China Limited | 144.92
Hava's Co., Ltd | Hava's Co., Ltd | 144.92
Cong Ty Tnhn Nem Thien Kim (a.k.a. Better Z's, Ltd.) | Healthcare Sleep Products Limited | 144.92
Gesin Vietnam Co., Ltd | Hong Kong Gesin Technology Limited | 144.92
Sinomax (Vietnam) Household Products Limited | Sinomax International Trading Limited | 144.92
Sinomax (Vietnam) Household Products Limited | Sinomax Macao Commercial Offshore Limited | 144.92
Super Foam Vietnam Ltd | Super Foam Vietnam Ltd | 144.92
Taimei Company Limited (a.k.a. Taimei Co., Ltd) | Taimei Company Limited (a.k.a. Taimei Co., Ltd) | 144.92
Tong Li Vietnam Industrial Co., LTD | Tong Li Vietnam Industrial Co., LTD | 144.92
Vietnam Glory Home Furnishings Co., Ltd./Glory (Viet Nam) Industry Co., Ltd | Vietnam Glory Home Furnishings Co., Ltd./Glory (Viet Nam) Industry Co., Ltd | 668.38
Wanek Furniture Co., Ltd./Millennium Furniture Co., Ltd./Comfort Bedding Company Limited | Wanek Furniture Co., Ltd./Millennium Furniture Co., Ltd./Comfort Bedding Company Limited | 144.92
Vietnam-Wide Entity | 668.38

Provisional Measures

Section 733(d) of the Act states that suspension of liquidation pursuant to an affirmative preliminary determination may not remain in effect for more than six months. Commerce published its affirmative Preliminary Determinations on November 3, 2020. Therefore, the six-month period beginning on the date of publication of the Preliminary Determinations ended on May 1, 2021. Pursuant to section 737(b) of the Act, the collection of cash deposits at the rates listed above will begin on the date of publication of the ITC's final injury determination in the Federal Register.

Therefore, in accordance with section 733(d) of the Act, Commerce will instruct CBP to terminate the suspension of liquidation and to liquidate, without regard to antidumping duties, unliquidated entries of mattresses from Cambodia, Indonesia, Malaysia, Serbia, Thailand, Turkey, and Vietnam entered, or withdrawn from warehouse, for consumption after May 1, 2021, the final day on which the provisional measures were in effect, through the day preceding the date of publication of the ITC's final affirmative injury determinations in the Federal Register. Suspension of liquidation will resume on the date of publication of the ITC's final affirmative injury determinations in the Federal Register.

Notification to Interested Parties

This notice constitutes the antidumping duty orders with respect to mattresses from Cambodia, Indonesia, Malaysia, Serbia, Thailand, Turkey, and Vietnam pursuant to section 736(a) of the Act. Interested parties can find a list of antidumping duty orders currently in effect at http://enforcement.trade.gov/stats/iastats1.html.

These orders are published in accordance with section and 736(a) of the Act and 19 CFR 351.211(b).

Dated: May 10, 2021.
Christian Marsh,
Acting Assistant Secretary for Enforcement and Compliance.

Appendix

Scope of the Orders

The products covered by these orders are all types of youth and adult mattresses. The term “mattress” denotes an assembly of materials that at a minimum includes a “core,” which provides the main support system of the mattress, and may consist of innersprings, foam, other resilient filling, or a combination of these materials. Mattresses may also contain: (1) “Upholstery,” the material between the core and the top panel of the ticking on a single-sided mattress; or between the core and the top and bottom panel of the ticking on a double-sided mattress; and/or (2) “ticking,” the outermost layer of fabric or other material (e.g., vinyl) that encloses the core and any upholstery, also known as a cover.

The scope of these orders is restricted to only “adult mattresses” and “youth mattresses.” “Adult mattresses” are frequently described as “twin,” “extra-long twin,” “full,” “queen,” “king,” or “California king” mattresses. “Youth mattresses” are typically described as “crib,” “toddler,” or “youth” mattresses. All adult and youth mattresses are included regardless of size and size description.

The scope encompasses all types of “innerspring mattresses,” “non-innerspring mattresses,” and “hybrid mattresses.” “Innerspring mattresses” contain innersprings, a series of metal springs joined together in sizes that correspond to the dimensions of mattresses. Mattresses that contain innersprings are referred to as “innerspring mattresses” or “hybrid mattresses.” “Hybrid mattresses” contain two or more support systems as the core, such as layers of both memory foam and innerspring units.

“Non-innerspring mattresses” are those that do not contain any innerspring units. They are generally produced from foams (e.g., polyurethane, memory (viscoelastic), latex foam, gel-infused viscoelastic (gel foam), thermobonded polyester, polyethylene) or other resilient filling.

Mattresses covered by the scope of these orders may be imported independently, as part of furniture or furniture mechanisms (e.g., convertible sofa bed mattresses, sofa bed mattresses imported with sofa bed mechanisms, corner group mattresses, day-bed mattresses, roll-away bed mattresses, high risers, trundle bed mattresses, crib mattresses), or as part of a set in combination with a “mattress foundation.” “Mattress foundations” are any base or support for a mattress. Mattress foundations are commonly referred to as “foundations,” “boxsprings,” “platforms,” and/or “bases.” Bases can be static, foldable, or adjustable. Only the mattress is covered by the scope if imported as part of furniture, with furniture mechanisms, or as part of a set in combination with a mattress foundation.

Excluded from the scope of these orders are “futon” mattresses. A “futon” is a bi-fold frame made of wood, metal, or plastic material, or any combination thereof, that functions as both seating furniture (such as a couch, love seat, or sofa) and a bed. A “futon mattress” is a tufted mattress, where the top covering is secured to the bottom with thread that goes completely through the mattress from the top through to the bottom, and it does not contain innersprings or foam. A futon mattress is both the bed and seating surface for the futon.

Also excluded from the scope are airbeds (including inflatable mattresses) and waterbeds, which consist of air- or liquid-filled bladders as the core or main support system of the mattress.

Also excluded is certain multifunctional furniture that is convertible from seating to sleeping, regardless of filler material or components, where that filler material or components are upholstered, integrated into the design and construction of, and inseparable from, the furniture framing, and the outermost layer of the multifunctional furniture converts into the sleeping surface. Such furniture may, and without limitation, be commonly referred to as “convertible sofas,” “sofabeds,” “sofa chaise sleepers,” “futons,” “ottoman sleepers” or a like description.

Also excluded from the scope of these orders are any products covered by the existing antidumping duty orders on uncovered innerspring units from China or Vietnam. See Uncovered Innerspring Units from the People's Republic of China: Notice of Antidumping Duty Order, 74 FR 7661 (February 19, 2009); Antidumping Duty Order: Uncovered Innerspring Units from the Socialist Republic of Vietnam, 73 FR 75391 (December 11, 2008).

Also excluded from the scope of these orders are bassinet pads with a nominal length of less than 39 inches, a nominal width less than 25 inches, and a nominal depth of less than 2 inches.

Additionally, also excluded from the scope of these orders are “mattress toppers.” A “mattress topper” is a removable bedding accessory that supplements a mattress by providing an additional layer that is placed on top of a mattress. Excluded mattress toppers have a height of four inches or less.

The products subject to these orders are currently properly classifiable under HTSUS subheadings: 9404.21.0010, 9404.21.0013, 9404.29.1005, 9404.29.1013, 9404.29.9085, and 9404.29.9087. Products subject to these orders may also enter under HTSUS subheadings: 9404.21.0095, 9404.29.1095, 9404.29.9095, 9401.40.0000, and 9401.90.5081. Although the HTSUS subheadings are provided for convenience and customs purposes, the written description of the merchandise subject to these orders is dispositive.

[FR Doc. 2021-10238 Filed 5-13-21; 8:45 am]

BILLING CODE 3510-DS-P